DEPARTMENT OF THE INTERIOR

Minerals Management Service

Outer Continental Shelf (OCS), Alaska Region, Beaufort Sea, Oil and Gas Lease Sales 186, 195, and 202 for Years 2003, 2005, and 2007

AGENCY: Minerals Management Service (MMS), Interior.

ACTION: Call for Information and Nominations and Notice of Intent (Call/NOI) to Prepare an Environmental Impact Statement (EIS).

SUMMARY: The Secretary's preliminary decision to consider three sales in the Beaufort Sea planning area in the Draft Proposed OCS Oil and Gas Leasing Program for 2002-2007 (DPP) provides for the first sale to be held in 2003, with subsequent sales in 2005 and 2007. The MMS has modified its prelease planning and decision process for proposed Beaufort Sea sales included in the DPP. This Call/NOI reflects that change and is in keeping with the Secretary's preliminary decision to analyze these three sales in a multi-sale EIS. The sale process for this first sale will require a minimum of 2 years to complete. In order to meet the requirements of that schedule, we are issuing this Call/NOI at this time, recognizing that the final decision on the 2002-2007 5-year program has not been made and final delineation of the program areas and number of sales may change from that included in the DPP.

DATES: Nominations and comments on the Call for Information and comments on the Notice of Intent must be received no later than November 5, 2001.

FOR FURTHER INFORMATION CONTACT: Please call Tom Warren at (907) 271-6691 in MMS's Alaska OCS Region regarding questions on the Call/NOI.

SUPPLEMENTARY INFORMATION: The multi-sale review process is based on over 25 years of leasing in the Beaufort Sea. The process will incorporate planning and analysis for three tentatively scheduled sales: Sales 186, 195, and 202. From the initial step in the process (the Call/NOI) through the final EIS/Consistency Determination step, this process will cover multiple sale proposals. However, there will also be complete National Environmental Policy Act (NEPA), OCS Lands Act, and Coastal Zone Management Act coverage for each sale after the first sale—either an Environmental Assessment or Supplemental EIS; Consistency Determination; and a proposed and final Notice of Sale.

The environmental analysis and the Consistency Determination for subsequent sales (195 and 202) will focus primarily on new issues or changes in a State's federally-approved coastal management plan. This process will

—Focus the environmental analysis by making impact types and levels that change between sales more easily recognizable for all reviewers;

—Result in new issues being more easily highlighted for the public;

—Eliminate issuance and public review of repetitive, voluminous EISs for each sale—a practice that has resulted in “review burnout” by Federal, State, local and tribal governments, and the public; and

—Result in a more efficient and responsive application of NEPA.

This Call does not indicate a preliminary decision to lease in the area described in Call for Information and Nominations, Item 3, “Description of Area,” below. Final delineation of the areas for possible leasing will be made at a later date in the presale process for each sale in compliance with the final 5-year program and with applicable laws including all requirements of the NEPA and the OCS Lands Act.

Call for Information and Nominations

1. Authority

This Call is published pursuant to the OCS Lands Act as amended (43 U.S.C. 1331-1356, (1994)), the regulations issued thereunder (30 CFR part 256); and in accordance with the Draft Proposed Outer Continental Shelf Oil and Gas Leasing Program 2002 to 2007.

2. Purpose of Call

The purpose of the Call is to gather preliminary information for the following tentatively scheduled OCS Oil and Gas Lease Sales in the Beaufort Sea:

Sale No. | Tentative sale date
186 | Fall 2003.
195 | Spring 2005.
202 | Spring 2007.

Information and nominations on oil and gas leasing, exploration, and development and production within the Beaufort Sea are sought from all interested parties. This early planning and consultation step is important for ensuring that all interests and concerns are communicated to the Department of the Interior for future decisions in the leasing process pursuant to the OCS Lands Act and regulations at 30 CFR part 256.

Responses are requested relative to all sales included herein. This Call/NOI is being issued in accordance with the Draft Proposed Outer Continental Shelf (OCS) Oil and Gas Leasing Program 2002 to 2007 (DPP) published on July 23, 2001 (66 FR 38314). The DPP chose a three sale option for leasing in the Beaufort Sea in the 2002-2007 5-year program.

3. Description of Area

The area that is the subject of this Call is located offshore the State of Alaska in the Beaufort Sea Planning Area. It extends offshore from about 3 to approximately 60 nautical miles, in water depths from approximately 25 feet to 200 feet. A small portion of the outer limits of the sale area north of Harrison Bay drops to approximately 3,000 feet. This area consists of approximately 1,898 whole and partial blocks (about 9.9 million acres). A page size map of the area accompanies this Notice. A large scale Call map showing the boundaries of the area on a block-by-block basis is available without charge from the Records Manager at the address given below, or by telephone request at (907) 271-6621. Copies of Official Protraction Diagrams (OPDs) are also available for $2 each. Alaska OCS Region, Minerals Management Service 949 East 36th Avenue, Room 308, Anchorage, Alaska 99508-4302, http://www.mms.gov/alaska.

4. Instructions on Call

The Call for Information Map and indications of interest and/or comments must be submitted to the Regional Supervisor, Leasing and Environment, at the address under Item 3, “Description of Area.”

The Call map delineates the area that is the subject of this Call. Respondents are requested to indicate interest in and comment on any or all of the Federal acreage within the boundaries of the Call area that they wish to have included in each of the proposed sales in the Beaufort Sea.

If you wish to comment, you may submit your comments by any one of the following methods:

• You may mail comments to the address under Item 3. Envelopes should be labeled “Nominations for Proposed 2002-2007 Lease sales in the Beaufort Sea,” or “Comments on the Call for Information and Nominations for Proposed Lease Sales in the Beaufort Sea,” as appropriate.

• You may also comment via e-mail to BeaufortMulti-Sale@mms.gov. Please submit Internet comments as an ASCII file avoiding the use of special characters and any form of encryption. Please also include “Attn: Comments on Call for Information and Nominations for Proposed 2002-2007 Lease Sales in the Beaufort Sea” and your name and return address in your Internet message. If you do not receive a confirmation from the system that we have received your Internet message, contact us directly at (907) 271-6621.

• Finally, you may hand-deliver comments to the address under Item 3.

Our practice is to make comments, including names and addresses of respondents, available for public review during regular business hours. Individual respondents may request that we withhold their address from the rulemaking record, which we will honor to the extent allowable by law. There also may be circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

A. Areas of Interest to the Oil and Gas Industry. Specific nominations are being sought regarding the oil and gas industry area(s) of interest. MMS is soliciting nominations of blocks that are of significant industry interest for exploration and development and production.

Nominations must be depicted on the Call map by outlining the area(s) of interest along block lines. Nominators are asked to submit a list of whole and partial blocks nominated (by OPD and block number) to facilitate correct interpretation of their nominations on the Call map. Although the identities of those submitting nominations become a matter of public record, the individual nominations are proprietary information.

Nominators also are requested to rank blocks nominated according to priority of interest (e.g., priority 1 (high), or 2 (medium)). Blocks nominated that do not indicate priorities will be considered priority 3 (low). Nominators must be specific in indicating blocks by priority and be prepared to discuss their range of interest and activity regarding the nominated area(s). The telephone number and name of a person to contact in the nominator's organization for additional information should be included in the response. This person will be contacted to set up a mutually agreeable time and place for a meeting with the Alaska OCS regional office to present their views regarding the company's nominations.

B. Relation to Coastal Management Plans. Comments also are sought on potential conflicts with approved local coastal management plans (CMP) that may result from the proposed sale and future OCS oil and gas activities. These comments should identify specific CMP policies of concern, the nature of the conflicts foreseen, and steps that MMS could take to avoid or mitigate the potential conflicts. Comments may be in terms of broad areas or restricted to particular blocks of concern. Commenters are requested to list block numbers or outline the subject area on the large-scale Call map.

5. Use of Information From Call

Information submitted in response to this Call will be used for several purposes. Responses will be used to:

—Help identify areas of potential oil and gas development;

—Identify environmental effects and potential use conflicts;

—Assist in the scoping process for the EIS;

—Develop possible alternatives to the proposed action;

—Develop lease terms and conditions/mitigating measures; and

—Identify potential conflicts between oil and gas activities and the Alaska CMP.

6. Existing Information

MMS has acquired a substantial amount of information, including that gained through the use of traditional knowledge, on the issues and concerns related to oil and gas leasing in the Beaufort Sea.

An extensive environmental, social, and economic studies program has been underway in this area since 1975. The emphasis has been on geologic mapping, environmental characterization of biologically sensitive habitats, endangered whales and marine mammals, physical oceanography, ocean-circulation modeling, and ecological and socio-cultural effects of oil and gas activities.

Information on the studies program, completed studies, and a program status report for continuing studies in this area may be obtained from the Chief, Environmental Studies Section, Alaska OCS Region, by telephone request at (907) 271-6577, or by written request at the address stated under “Description of Area,” Item 3. A request may also be made via the Alaska Region website at www.mms.gov/alaska/ref/pubindex/pubsindex.htm.

7. Tentative Schedule

The following is a list of tentative milestone dates applicable to sales covered by this Call:

| Multi-sale process milestones for proposed 2002-2007 Beaufort Sea Sale 186
Call/NOI published | September 2001.
Comments due on Call/NOI | October 2001.
Area Identification | November 2001.
Draft EIS published | May 2002.
Public Hearings | July 2002.
Final EIS/Consistency Determination/Proposed Notice of Sale issued | February 2003.
Governor's Comments due (Sale 186) | May 2003.
Final Notice of Sale published (Sale 186) | August 2003.
Sale 186 | September 2003.

| Sale-specific process milestones for proposed 2002-2007 Beaufort Sea Sales 195, 202
Request for Information to Begin Sale-Specific Process | 18 months before each sale.
Area Identification | 15 months before each sale.
NEPA Review published | 6 to 8 months before each sale.
Proposed Notice and Consistency Determination | 6 months before each sale.
Final Notice of Sale | 45 days before each sale.
Tentative Sale Date | March.

Notice of Intent To Prepare an Environmental Impact Statement

1. Authority

The NOI is published pursuant to the regulations (40 CFR 1501.7) implementing the provisions of the NEPA of 1969 as amended (42 U.S.C. 4321 et seq. (1988)).

2. Purpose of Notice of Intent

Pursuant to the regulations (40 CFR 1501.7) implementing the procedural provisions of the NEPA of 1969 (42 U.S.C. 4321 et seq.), MMS is announcing its intent to prepare a multi-sale EIS on the tentatively scheduled oil and gas lease sales in the Beaufort Sea off Alaska for the 5-year program period of July 2002 through June 2007. The EIS analysis will focus on the potential environmental effects of three sales, and exploration and development and production of the areas defined in the Area Identification procedure as the proposed areas of the Federal actions. Alternatives to the proposals which may be considered for each individual sale are to delay the sale, modify the sale, or cancel the sale. These and any additional alternatives developed through the process for each individual sale will be considered in the sale-specific decision process. This Notice of Intent also serves to announce the initiation of the scoping process for this EIS. Throughout the scoping process, Federal, State, tribal, and local governments and other interested parties aid MMS in determining the significant issues and alternatives to be analyzed in the EIS and the possible need for additional information.

3. New EIS Procedure

The MMS is proposing to prepare a single EIS for all three proposed Beaufort Sea sales from 2002 to 2007. The resource estimates and scenario information on which the EIS analysis are based will be presented as a range of resources and activities that would encompass any of the three proposed sales in the Beaufort Sea.

This proposal will provide several benefits. It will focus the NEPA process by making impact types and levels that change between sales more easily recognizable. New issues will be more easily highlighted for the decisionmakers and the public. It will also eliminate the repetitive issuance of a complete EIS for each sale, a practice that has resulted in “review burnout in Federal, State, tribal, and local governments, and the public.

The proposed actions analyzed in the EIS will be each of the sales on the 5-year schedule for the Beaufort Sea planning area. The EIS will include an analysis of the environmental effects of holding three sales. The scenario will cover a range of resources and activities that will encompass any of the three proposed actions. Later sales can then be compared to the initial analysis in an Environmental Assessment or supplemental EIS. Formal consultation with the public will be initiated in subsequent years to obtain input to assist in the determination of whether or not the information and analyses in the original multi-sale EIS are still valid. A sale-specific Information Request will be issued that will specifically describe the action for which we are requesting input.

4. Instructions on Notice of Intent

Federal, state, tribal, and local governments and other interested parties are requested to send their written comments on the Scope of the EIS, significant issues that should be addressed, and alternatives that should be considered to the Regional Supervisor, Leasing and Environment, Alaska OCS Region, at the address stated under Call for Information and Nominations, Item 4, “Instructions on Call.” Comments should be enclosed in an envelope labeled “Comments on the Notice of Intent to Prepare an EIS on Proposed Beaufort Sea Lease Sales Included in the 5-Year Program, 2002-2007.” Scoping meetings will be held in appropriate locations to obtain additional comments and information regarding the scope of this EIS.

Dated: August 27, 2001.
Thomas R. Kitsos,
Acting Director, Minerals Management Service.

BILLING CODE 4310-MR-P

[FR Doc. 01-23344 Filed 9-18-01; 8:45 am]

BILLING CODE 4310-MR-C